NATIONAL AERONAUTICS AND SPACE ADMINISTRATION

[Notice 01-053]

NASA Advisory Council (NAC), Earth Systems Science and Applications Advisory Committee (ESSAAC), Technology Subcommittee (TSC); Meeting

AGENCY: National Aeronautics and Space Administration.

ACTION: Notice of Meeting.

SUMMARY: In accordance with the Federal Advisory Committee Act, Pub. L. 92-463, as amended, the National Aeronautics and Space Administration announces a meeting of a NASA Advisory Council, Earth Systems Science and Applications Advisory Committee, Technology Subcommittee.

DATES: Wednesday, May 9, 2001, 8 a.m. to 5 p.m.; and Thursday, May 10,2001, 8:15 a.m. to 1 p.m.

ADDRESSES: NASA/Goddard Space Flight Center (GSFC), Greenbelt Road, Building 32, Room E109, Greenbelt, MD 20771 .

FOR FURTHER INFORMATION CONTACT: Mr. Granville Paules, National Aeronautics and Space Administration, Washington, DC 20546, 202/358-0706.

SUPPLEMENTARY INFORMATION: The meeting will be open to the public up to the seating capacity of the room. The agenda for the meeting is as follows:

—Opening/Welcome

—Meeting Logistics

—Review of Agenda and Opening Comments—Chairman of the ESSAAC Technology Subcommittee

—Action Item Status—TSC Members and NASA Leads Super Computing Needs On-orbit vs. Ground Computing

—ESE Vision Initiatives

—Assessment of Principal Investigator (PI) vs. Project Manager (PM) and Earth Systems Laser/Lidar—TSC Members and Technology Managers

—Subcommittee Findings/Enterprise Response

—Earth Science Enterprise (ESE) Program Status

—Earth Science Technology Office (ESTO)

—High Performance Computing and Communications (HPCC)

—New Millennium Program (NMP)

—Action Item Summary

—GSFC Earth Science Overview

—GSFC Focused Technology Briefs

It is imperative that the meeting be held on these dates to accommodate the scheduling priorities of the key participants. Visitors will be requested to sign a visitor's register.

Dated: April 19, 2001.
Beth M. McCormick,
Advisory Committee Management Officer, National Aeronautics and Space Administration.

[FR Doc. 01-10171 Filed 4-24-01; 8:45 am]

BILLING CODE 7510-01-P